SUSQUEHANNA RIVER BASIN COMMISSION

Notice of Public Hearing and Commission Meeting

AGENCY: Susquehanna River Basin Commission.

ACTION: Notice of Public Hearing and Commission Meeting.

SUMMARY: The Susquehanna River Basin Commission will hold a public hearing to consider approval of certain water resources projects identified in the Supplementary Information section as part of its regular business meeting to be held at 1 p.m. on March 14, 2007 in Altoona, Pa. At the public hearing, the Commission will also consider the rescission of three docket approvals and an enforcement action involving one project, all of which are identified in the Supplementary Information section.

DATES: March 14, 2007.

ADDRESSES: Ramada Conference Center Altoona, 1 Sheraton Drive, Altoona, PA. See Supplementary Information section for mailing and electronic mailing addresses for submission of written comments.

FOR FURTHER INFORMATION CONTACT: Richard A. Cairo, General Counsel, telephone: (717) 238-0423; ext. 306; fax: (717) 238-2436; e-mail: rcairo@src.net or Deborah J. Dickey, Secretary to the Commission, telephone: (717) 238-0423, ext. 301; fax: (717) 238-2436; e-mail: ddickey@srbc.net.

SUPPLEMENTARY INFORMATION: In addition to the public hearing and its related action items identified below, the business meeting also includes the following items on the agenda: (1) A panel session on water resources management issues in the Morrison Cove Watershed, Juniata Subbasin, of the Susquehanna River Basin; (2) a report on hydrologic conditions in the basin; (3) adoption of the 2007 Water Resources Program; (4) revisions to the FY 2008 budget; (5) approval/ratification of grants and contracts; (6) presentation of SRBC's Frederick Zimmerman and William Jeannes Awards; and (7) recognition of former Maryland Member Kendl Philbrick.

Public Hearing—Projects Scheduled for Action:

1. Project Sponsor & Facility: Osram Sylvania Products, Inc., Towanda Borough, Bradford County, Pa. Modification of consumptive water use approval (Docket No. 19970502).

2. Project Sponsor & Facility: Conyngham Borough Authority, Conyngham Borough, Luzerne County, Pa. Application for groundwater withdrawal of up to 0.216 mgd.

3. Project Sponsor: The County of Lycoming. Project Facility: Lycoming County Resource Management Services, Brady Township, Lycoming County, Pa. Application for consumptive water use of up to 0.105 mgd.

4. Project Sponsor & Facility: Mount Union Municipal Authority, Wayne Township, Mifflin County, Pa. Application for groundwater withdrawal of up to 0.432 mgd.

5. Project Sponsor & Facility: Commonwealth Environmental Systems, L.P., Foster Township, Schuylkill County, Pa. Application for consumptive water use of up to 0.030 mgd.

6. Project Sponsor & Facility: Shippensburg Borough Authority, Southampton Township, Cumberland County, Pa. Application for groundwater withdrawal of up to 2.000 mgd.

7. Project Sponsor: Lancaster County Solid Waste Management Authority. Project Facility: Frey Farm and Creswell Landfills, Manor Township, Lancaster County, Pa. Modification of consumptive water use approval (Docket No. 20061208).

8. Project Sponsor: Delta Borough. Project Facility: Delta Ridge Subdivision, Peach Bottom Township, York County, Pa. Application for groundwater withdrawal of up to 0.032 mgd.

Public Hearing—Projects Scheduled for Rescission Action:

1. Project Sponsor & Facility: Frito-Lay, Inc. (Docket No. 20020201), Johnson City, Broome County, NY.

2. Project Sponsor: Corning Incorporated. Project Facility: Erwin Park Photonics (Docket No. 20031002), Town of Erwin, Steuben County, NY.

3. Project Sponsor & Facility: Union Township Municipal Authority (Docket No. 19920701), Union Township, Clearfield County, Pa.

Public Hearing—Projects Scheduled for Enforcement Action:

1. Project Sponsor: South Slope Development Corporation (Docket No. 19991103). Project Facility: Song Mountain Ski Resort, Town of Preble, Cortland County, NY.

Opportunity to Appear and Comment:

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@src.net or Deborah J. Dickey, Secretary to the Commission, e-mail: ddickey@srbc.net. Comments mailed or electronically submitted must be received prior to March 14, 2007 to be considered.

Authority: Pub. L. 91-575, 84 Stat. 1509 et seq., 18 CFR Parts 803, 804, and 805.

Dated: February 16, 2007.
Thomas W. Beauduy,
Deputy Director.

[FR Doc. E7-3370 Filed 2-26-07; 8:45 am]

BILLING CODE 7040-01-P